DEPARTMENT OF DEFENSE

Department of the Air Force

Record of Decision for the KC-46A Fourth Main Operating Base Beddown

AGENCY: Department of the Air Force, Department of Defense.

ACTION: Notice of availability of a Record of Decision.

SUMMARY: The United States Air Force signed the Record of Decision for the KC-46A Fourth Main Operating Base (MOB 4) on August 29, 2018.

ADDRESSES: For further information contact: Mr. Mike Ackerman, AFCEC/CZN, 2261 Hughes Ave, Ste 155, JBSA Lackland, TX 78236, ph: (210) 925-2741.

SUPPLEMENTARY INFORMATION: The Record of Decision reflects the Air Force decision to beddown 24 KC-46A Primary Aeropsace Vehichles Aurthorized (PAA) at Joint Base McGuire-Dix-Lakehurst, New Jersey and 24 KC-46A PAA at Travis Air Force Base, California.

The decision was based on matters discussed in the KC-46A Fourth Main Operating Base Beddown Final Environmental Impact Statement, contributions from the public and regulatory agencies, and other relevant factors. The Final Environmental Impact Statement was made available to the public on June 22, 2018 through a Notice of Availability published in the Federal Register (Volume 83, Number 121, page 29115) with a 30-day wait period that ended on July 23, 2018.

Authority: This Notice of Availability is published pursuant to the regulations (40 CFR part 1506.6) implementing the provisions of the National Environmental Policy Act of 1969 (42 U.S.C. 4321, et seq.) and the Air Force's Environmental Impact Analysis Process (32 CFR parts 989.21(b) and 989.24(b)(7)).

Henry Williams,
Acting Air Force Federal Register Liaison Officer.

[FR Doc. 2018-20643 Filed 9-20-18; 8:45 am]

BILLING CODE 5001-10-P